DEPARTMENT OF HOMELAND SECURITY

Transportation Security Administration

[Docket No. TSA-2009-0018]

Extension of Agency Information Collection Activity Under OMB Review: Certified Cargo Screening Program

AGENCY: Transportation Security Administration, DHS.

ACTION: 30-day notice.

SUMMARY: This notice announces that the Transportation Security Administration (TSA) has forwarded the Information Collection Request (ICR), Office of Management and Budget (OMB) control number 1652-0053, abstracted below to OMB for renewal in compliance with the Paperwork Reduction Act. The ICR describes the nature of the information collection and its expected burden. TSA published a Federal Register notice, with a 60-day comment period soliciting comments, of the following collection of information on February 24, 2012, 77 FR 11146, and TSA received no comments. The collections include: (1) Applications from entities that wish to become Certified Cargo Screening Facilities (CCSFs); (2) personal information to allow TSA to conduct security threat assessments on key individuals employed by the CCSFs; (3) implementation of a standard security program or submission of a proposed modified security program; (4) information on the amount of cargo screened; (5) recordkeeping requirements for CCSFs, and any other requests for information relating to cargo screening required to meet the Implementing Recommendations of the 9/11 Commission Act of 2007 (9/11 Act) and the Aviation and Transportation Security Act (ATSA) mandates. TSA is seeking the renewal of the ICR for the continuation of the program in order to secure passenger aircraft transporting cargo as required in the 9/11 Act.

DATES: Send your comments by May 29, 2012. A comment to OMB is most effective if OMB receives it within 30 days of publication.

ADDRESSES: Comments may be mailed or delivered to Susan Perkins, PRA Officer, Office of Information Technology, TSA-11, Transportation Security Administration, 601 South 12th Street, Arlington, VA 20598-6011. Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Susan Perkins, Office of Information Technology, TSA-11, Transportation Security Administration, 601 South 12th Street, Arlington, VA 20598-6011; telephone (571) 227-3398 or email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Certified Cargo Screening Program.

Type of Request: Renewal of one currently approved ICR.

OMB Control Number: 1652-0053.

Forms(s): The forms used for this collection of information include the CCSF Facility Profile Application (TSA Form 419B), CCSF Principal Attestation (TSA Form 419D), Security Profile (TSA Form 419E), Security Threat Assessment Application (TSA Form 419F), Aviation Security Known Shipper Verification (TSA Form 419H), CCSF Indirect Air Carrier Reporting Template, CCSF Shipper Reporting Template, and the CCSF Independent Cargo Screening Facility Reporting Template.

Affected Public: The collections of information that make up this ICR involve entities other than aircraft operators and include facilties upstream in the air cargo supply chain, such as shippers, manufacturers, warehousing entities, distributors, third party logistics companies, and indirect air carriers located in the United States.

Abstract: TSA is seeking continued approval from OMB for the collections of information contained in the ICR. Congress identified specific requirements for TSA in the area of air cargo security in the ATSA (Pub. L. 107-71, 115 Stat. 597, Nov. 19, 2002): (1) To provide for screening of all property, including U.S. mail, cargo, carry-on and checked baggage, and other articles that will be carried aboard a passenger aircraft; and (2) to establish a system to screen, inspect, report, or otherwise ensure the security of all cargo that is to be transported on passenger aircraft as soon as practicable. In the 9/11 Act (Pub. L. 110-53, 121 Stat. 266, Aug. 3, 2007), Congress requires that 50 percent of cargo transported on passenger aircraft be screened not later than February 2009, and 100 percent of such cargo be screened not later than August 2010. TSA issued an interim final rule on September 16, 2009, 74 FR 47672, amending title 49 of the Code of Federal Regulations (CFR) to implement this statutory requirement. On August 18, 2011, TSA issued the Air Cargo Screening final rule (76 FR 51848) which removed all requirements regarding validators and validation firms in part 1522, and the requirement that aircraft operators become CCSFs to screen cargo off airport.

TSA must proceed with the ICR for this program in order to meet the Congressional mandates, and current and new regulations (49 CFR 1542.209, 1544.205, 1546.205, parts 1548 and 1549) that enable entities involved in air cargo to accept, screen, and transport air cargo. The uninterrupted collection of this information will allow TSA to continue to ensure implementation of these vital security measures for the protection of the traveling public.

TSA will certify qualified facilities as CCSFs. Companies seeking to become CCSFs are required to submit an application to TSA at least 90 days before the intended date of operation. Prior to certification, the CCSF must also submit to an assessment of their facility by TSA. TSA will allow the regulated entity to operate as a CCSF in accordance with a TSA-approved security program. The regulated entities must also collect personal information and submit such information to TSA so that TSA may conduct security threat assessments for individuals with unescorted access to cargo, and who have responsibility for screening cargo under 49 CFR parts 1544, 1546, 1548, and 1549. CCSFs must provide information on the amount of cargo screened and other cargo screening metrics at an approved facility. CCSFs must also maintain screening, training, and other security-related records of compliance.

Estimated Number of Respondents: 967.

Estimated Annual Burden Hours: 143,768 hours annually.

Dated: Issued in Arlington, Virginia, on April 23, 2012.
Susan Perkins,
Paperwork Reduction Act Officer, Office of Information Technology.

[FR Doc. 2012-10133 Filed 4-26-12; 8:45 am]

BILLING CODE 9110-05-P